DEPARTMENT OF THE INTERIOR

Office of the Secretary

[FWS-HQ-EA-2014-N063; FF09X60000-FVWF979209000005D-XXX]

Sport Fishing and Boating Partnership Council Charter

AGENCY: Office of the Secretary, Interior.

ACTION: Notice.

SUMMARY: Under the Federal Advisory Committee Act (FACA), following consultation with the General Services Administration, the Secretary of the Interior has renewed the Sport Fishing and Boating Partnership Council (Council) charter for 2 years.

DATES: The charter will be filed with the Senate and House of Representatives and the Library of Congress on July 8, 2014.

FOR FURTHER INFORMATION CONTACT: Brian Bohnsack, Council Coordinator, U.S. Fish and Wildlife Service, (703) 358-2435, brian_bohnsack@fws.gov.

SUPPLEMENTARY INFORMATION: The Council will conduct its operations in accordance with the provisions of the FACA. It will report to the Secretary of the Interior (Secretary), through the Director of the U.S. Fish and Wildlife Service. The Council will function solely as an advisory body. The Council's duties will consist of, but are not limited to:

a. Providing advice that will assist the Secretary in compliance with the Fish and Wildlife Act of 1956.

b. Fulfilling responsibilities established by Executive Order 12962:

(1) Monitoring specific Federal activities affecting aquatic systems and the recreational fisheries they support.

(2) Reviewing and evaluating the relation of Federal policies and activities to the status and conditions of recreational fishery resources.

c. Recommending policies or programs to increase public awareness and support for the Sport Fish Restoration and Boating Trust Fund.

d. Recommending policies or programs that foster conservation and ethics in recreational fishing and boating.

e. Recommending policies or programs to stimulate angler and boater participation in the conservation and restoration of aquatic resources through outreach and education.

f. Advising how the Secretary can foster communication and coordination among government, industry, anglers, boaters, and the public.

The Council will consist of no more than 18 members and up to 16 alternates appointed by the Secretary for 2-year terms. The Director of the U.S. Fish and Wildlife Service and the President of the Association of Fish and Wildlife Agencies (AFWA) are ex officio members. Appointees will be selected from among, but not limited to, the following national interest groups:

a. State fish and wildlife resource management agencies (two members—one a Director of a coastal State and one a Director of an inland State),

b. Saltwater and freshwater recreational fishing organizations,

c. Recreational boating organizations,

d. Recreational fishing and boating industries,

e. Recreational fishery resources conservation organizations,

f. Tribal resource management organizations,

g. Aquatic resource outreach and education organizations, and

h. The tourism industry.

Members will be senior-level representatives of recreational fishing, boating, and aquatic resources conservation organizations, and must have the ability to represent their designated constituencies.

The Council will function solely as an advisory body and in compliance with provisions of the FACA (5 U.S.C. Appendix). This notice is published in accordance with section 9(a)(2) of the FACA. The Certification of Renewal is published below.

Certification: I hereby certify that the Sport Fishing and Boating Partnership Council is necessary and is in the public interest in connection with the performance of duties imposed on the Department of the Interior under the Fish and Wildlife Act of 1956 (16 U.S.C. 742a-742j), the Federal Aid in Sport Fish Restoration Act (16 U.S.C. 777-777k), the Fish and Wildlife Coordination Act (16 U.S.C. 661-667e), and Executive Order 12962, 60 FR 30769 (June 7, 1995), as amended by Executive Order 13474, 73 FR 57229 (September 26, 2008).

Dated: June 9, 2014.
Sally Jewell,
Secretary of the Interior.

[FR Doc. 2014-14611 Filed 6-20-14; 8:45 am]

BILLING CODE 4310-55-P